FEDERAL COMMUNICATIONS COMMISSION

47 CFR Part 73

[DA 002767; MM Docket No. 00-150; RM-9944]

Radio Broadcasting Services; Lewistown, MT

AGENCY: Federal Communications Commission.

ACTION: Final rule.

SUMMARY: This document allots Channel 300C1 at Lewistown, Montana, in response to a petition filed by Lewistown Radio. See 65 FR 53974, September 6, 2000. The coordinates for Channel 300C1 at Lewistown are 47-03-45 NL and 109-25-39 WL. Although concurrence of the Canadian Government has been requested for the allotment of Channel 300C1, notification has not been received. Therefore, operation with the facilities specified for Lewistown herein is subject to modification, suspension, or termination without right to hearing, if found by the Commission to be necessary in order to conform to the 1991 Canada-USA FM Broadcast Agreement or if specifically objected to by Canada. A filing window for Channel 300C1 at Lewistown will not be opened at this time. Instead, the issue of opening a filing window for this channel will be addressed by the Commission in a subsequent order.

DATES: Effective January 22, 2001.

FOR FURTHER INFORMATION CONTACT: Kathleen Scheuerle, Mass Media Bureau, (202) 418-2180.

SUPPLEMENTARY INFORMATION: This is a summary of the Commission's Report and Order, MM Docket No. 00-150, adopted November 29, 2000, and released December 8, 2000.

The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Montana, is amended by adding Channel 300C1 at Lewistown.

Federal Communications Commission.
John A. Karousos,
Chief, Allocations Branch, Policy and Rules Division, Mass Media Bureau.

[FR Doc. 00-32246 Filed 12-18-00; 8:45 am]

BILLING CODE 6712-01-P